DEPARTMENT OF COMMERCE

National Oceanic and Atmospheric Administration

RIN 0648-XJ83

New England Fishery Management Council; Public Meeting

AGENCY: National Marine Fisheries Service (NMFS), National Oceanic and Atmospheric Administration (NOAA), Commerce.

ACTION: Notice of a public meeting.

SUMMARY: The New England Fishery Management Council (Council) will hold a two-day Council meeting on September 3-4, 2008 to consider actions affecting New England fisheries in the exclusive economic zone (EEZ).

DATES: The meeting will be held on Wednesday, September 3 beginning at 9 a.m., and Thursday, September 4, beginning at 8:30 a.m.

ADDRESSES: The meeting will be held at the Providence Biltmore Hotel, 11 Dorrance Street, Providence, RI 02903; telephone: (401)421-0700. Requests for special accommodations should be addressed to the New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Wednesday, September 3, 2008

Following introductions and any announcements, the Council will swear in new and reappointed members as well as elect its Council Officers for 2008-2009. During the morning session, the Council will discuss Amendment 3 to the Skate Fishery Management Plan (FMP). They will approve change in the scope of the amendment to include (?) a rebuilding plan to address the overfished condition of smooth skate and to address overfishing of thorny skate. The Council will then review the Scientific and Statistical Committee's comments on National Standard 1 Guidelines proposed by the National Marine Fisheries Service and finalize Council comments. The National Standard 1 discussion will continue into the afternoon session followed by discussion of the Northeast Multispecies Amendment 16. Dr. Paul Rago from the Northeast Fisheries Science Center will present a summary of the results of the Groundfish Assessment Review Meeting (GARM III) and the Council will review the stock status and biological reference points for all groundfish stocks. Also, on the agenda will be the discussion of the results of the Transboundary Resource Assessment Committee Meeting for eastern Georges Bank cod, haddock, and Georges Bank yellowtail flounder and the Groundfish Committee will give its report and ask the Council to develop management options for Amendment 16; discussion will include modifications as necessary to rebuilding plans, adoption of new rebuilding plans if necessary, and identification of management measures for further development.

Thursday, September 4, 2008

Following a brief opportunity for public comments on items not listed on the agenda, the Council will continue its discussion of Amendment 16 from the previous day until the Council meeting adjourns for the day.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: August 15, 2008.
Tracey L. Thompson,
Acting Director, Office of Sustainable Fisheries, National Marine Fisheries Service.

[FR Doc. E8-19288 Filed 8-19-08; 8:45 am]

BILLING CODE 3510-22-S